DEPARTMENT OF HEALTH AND HUMAN SERVICES

Agenda for February 13 and 14, 2002 Meeting of the President's Council on Bioethics

AGENCY: President's Council on Bioethics, HHS.

ACTION: Addendum to the Prior Notice of Public Meeting.

SUMMARY: The President's Council on Bioethics will hold its second meeting to discuss its agenda and future activities on February 13 and 14, 2002.

Tentative Agenda

Wednesday, February 13

8:30 am

Opening Remarks.

Leon R. Kass, M.D., Chairman.

8:45 am

Session 1: Human Cloning 4: Proper Use of Language.

Working Paper #5: On Terminology.

10:00 am

Break.

10:15 am

Session 2: Human Cloning 5: National Academics' Report, “Scientific and Medical Aspects of Human Reproductive Cloning.”

Irving L. Weissman, M.D.

Noon

Lunch.

1:30 pm

Session 3: Human Cloning 6: Ethical Issues in “Reproductive” Cloning. Working Paper #6: The Ethics of “Reproductive” Cloning: Child, Family, and Society.

3:00 pm

Break.

3:15pm

Session 4: Human Cloning 7: Ethical Issues in “Reproductive” Cloning, Continued.

5:00 pm

Session 5: Ethical Conduct of Council Members. Q&A with Administration Attorney.

5:30 pm

Adjournment.

Thursday, February 14

8:30 am

Session 6: Human Cloning 8: Ethical Issues in “Therapeutic/Research” Cloning.

10:00 am

Break.

10:15 am

Session 7: Human Cloning 9: Cloning and Public Policy: Legislative Alternatives.

11:45 am

Break.

Noon

Session 8: Public Comments.

1:00 pm

Adjournment.

Public Comments: Written statements may be submitted by members of the public for the Council's records. Please submit statements to Ms. Diane Gianelli (tel. 202/296-4694). Persons wishing to comment in person may do so during the hour set aside for this purpose beginning at noon on Thursday, February 14. Comments will be limited to no more than five minutes per speaker or organization. Please give advance notice of such statements to Ms. Gianelli at the phone number given above, and be sure to include name, affiliation, and a brief description of the topic or nature of the statement.

FOR FURTHER INFORMATION CONTACT: Diane Gianelli, 202/296-4694.

Dated: February 6, 2002.
Dean Clancy,
Executive Director, President's Council on Bioethics.

[FR Doc. 02-3626 Filed 2-13-02; 8:45 am]

BILLING CODE 4150-05-P